DEPARTMENT OF THE INTERIOR

Bureau of Land Management

[CA-310-1820-AE]

Notice of Resource Advisory Council Meeting

AGENCY: Bureau of Land Management, Northeast California Resource Advisory Council, Alturas, California, Interior.

ACTION: Notice of meeting.

SUMMARY: Pursuant to the authorities in the Federal Advisory Committees Act (Public Law 92-463) and the Federal Land Policy and Management Act (Public Law 94-579), the U. S. Bureau of Land Management's Northeast California Resource Advisory Council will meet Thursday and Friday, Jan. 10 and 11, 2002, at the Bureau of Land Management's Alturas Field Office, 708 West 12th St., Alturas, California.

SUPPLEMENTARY INFORMATION: The meeting begins at 1 p.m., Jan. 10, and adjourns at noon, Jan. 11, in the Conference Room of the Alturas Field Office. Public comments will be accepted Thursday, Jan. 10, at 4 p.m. Meeting agenda items include a juniper management status report, an overview report of the Modoc-Washoe Experimental Stewardship Program, a status report on wild horse and burro management, and an update on management planning for the Black Rock Desert-High Rock Canyon Emigrant Trails National Conservation Area.

FOR FURTHER INFORMATION CONTACT: BLM Alturas Field Manager Tim Burke, (530) 233-4666; or Public Affairs Officer Joseph J. Fontana, (530) 257-5381.

Joseph J. Fontana,
Public Affairs Officer.

[FR Doc. 01-30615 Filed 12-10-01; 8:45 am]

BILLING CODE 4310-40-P